DEPARTMENT OF JUSTICE

Notice of Lodging of Proposed Consent Decrees Under the Comprehensive Environmental Response, Compensation, and Liability Act

On February 10, 2017, the Department of Justice lodged two proposed consent decrees with the United States District Court for the Western District of New York in the lawsuit entitled United States v. NL Industries, Inc., et al., Civil Action No. 1:17-cv-124.

The United States filed this lawsuit under the Comprehensive Environmental Response, Compensation and Liability Act (CERCLA). The United States' complaint names NL Industries, Inc., ACF Industries, LLC, American Premier Underwriters, Inc., DII Industries LLC, Exide Technologies, and Gould Electronics Inc. as defendants. The complaint requests recovery of costs that the United States incurred responding to releases of hazardous substances at the NL Depew Superfund Site in Depew, Erie County, New York. NL Industries, Inc. signed the first consent decree, and the remaining defendants signed the second consent decree. The defendants agree to pay the following amounts of the United States' response costs: NL Industries, Inc. will pay $3.677 million, ACF Industries, LLC will pay $80,000, American Premier Underwriters, Inc. will pay $140,000, DII Industries LLC will pay $720,000, Exide Technologies will pay $15,000, and Gould Electronics Inc. will pay $230,000. In return, the United States agrees not to sue the defendants under Sections 106 and 107 of CERCLA with respect to the NL Depew Superfund Site, subject to certain reservations.

The publication of this notice opens a period for public comment on the consent decrees. Comments should be addressed to the Assistant Attorney General, Environment and Natural Resources Division, and should refer to United States v. NL Industries, Inc. et al., D.J. Ref. No. 90-11-3-11341. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decrees may be examined and downloaded at this Justice Department Web site: https://www.justice.gov/enrd/consent-decrees. We will provide a paper copy of the consent decrees upon written request and payment of reproduction costs. Please mail your request and payment to: Consent Decree Library, U.S. DOJ—ENRD, P.O. Box 7611, Washington, DC 20044-7611.

Please enclose a check or money order for $5.00 for the decree with NL, $6.50 for the decree with the remaining defendants, or $11.50 for both decrees (25 cents per page reproduction cost) payable to the United States Treasury.

Robert E. Maher, Jr.,
Assistant Section Chief, Environmental Enforcement Section, Environment and Natural Resources Division.

[FR Doc. 2017-03294 Filed 2-17-17; 8:45 am]

BILLING CODE 4410-CW-P